DEPARTMENT OF TRANSPORTATION

National Highway Traffic Safety Administration

[Docket No. NHTSA 2005-23171; Notice 2]

Bridgestone Firestone North America Tire, LLC, Grant of Petition for Decision of Inconsequential Noncompliance

Bridgestone Firestone North America Tire, LLC (Bridgestone Firestone) has determined that certain tires that it produced in 2005 do not comply with S4.3.2 of 49 CFR 571.109, Federal Motor Vehicle Safety Standard (FMVSS) No. 109, “New pneumatic tires.” Pursuant to 49 U.S.C. 30118(d) and 30120(h), Bridgestone Firestone has petitioned for a determination that this noncompliance is inconsequential to motor vehicle safety and has filed an appropriate report pursuant to 49 CFR Part 573, “Defect and Noncompliance Reports.” Notice of receipt of a petition was published, with a 30-day comment period, on December 9, 2005 in the Federal Register (70 FR 73323). NHTSA received no comments.

Affected are a total of approximately 50 P205/70R15 Le Mans Champion SE tires produced in 2005. S4.3.2 of FMVSS No. 109 refers to 49 CFR Part 575.4, section (d) of which requires that the sidewall stamping include the date of manufacture. The noncompliant tires are stamped HYMOLCM, while the correct stamping including the date of manufacture should be HYMOLCM2705.

Bridgestone Firestone believes that the noncompliance is inconsequential to motor vehicle safety and that no corrective action is warranted. Bridgestone Firestone states that “[t]he noncompliant tires meet or exceed all performance requirements of FMVSS No. 109 and will have no impact on the operational performance or safety of vehicles on which these tires are mounted.” The petitioner further states,

The week and year of [the] production portion of the Tire Identification Number (TIN) becomes important in the event of a safety campaign so that the consumer may properly identify the recalled tire(s). For this mislabeling, any safety campaign communication, if necessary, could include in the listing of recalled TINs and (sic) the TIN for these tires with the missing or blank date of production so that the consumer would know that these mislabeled tires are included in the recall.

NHTSA agrees with Bridgestone Firestone that the noncompliance is inconsequential to motor vehicle safety. As Bridgestone Firestone points out, a consumer notification of a recall of the tires could be accomplished by referring to the TIN. Bridgestone Firestone has corrected the problem.

In consideration of the foregoing, NHTSA has decided that the petitioner has met its burden of persuasion that the noncompliance described is inconsequential to motor vehicle safety. Accordingly, Bridgestone Firestone's petition is granted and the petitioner is exempted from the obligation of providing notification of, and a remedy for, the noncompliance.

Authority: (49 U.S.C. 30118, 30120; delegations of authority at CFR 1.50 and 501.8)

Issued on: January 20, 2006.
Daniel C. Smith,
Associate Administrator for Enforcement.

[FR Doc. E6-958 Filed 1-25-06; 8:45 am]

BILLING CODE 4910-59-P